DEPARTMENT OF HOMELAND SECURITY

Transportation Security Administration

[Docket No. TSA-2004-19147]

Extension of Agency Information Collection Activity Under OMB Review: Flight Training for Aliens and Other Designated Individuals; Security Awareness Training for Flight School Employees

AGENCY: Transportation Security Administration, DHS.

ACTION: 30-Day Notice.

SUMMARY: This notice announces that the Transportation Security Administration (TSA) has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on June 06, 2008, 73 FR 32346. The collection requires TSA to conduct a security threat assessment on all aliens and designated individuals seeking flight instruction (“candidates”) from Federal Aviation Administration (FAA)-certified flight training providers. Additionally, flight training providers are required to conduct a security awareness program for their employees, and to maintain records associated with this training.

DATES: Send your comments by September 12, 2008. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, Communications Branch, Business Management Office, Operational Process and Technology, TSA-32, Transportation Security Administration, 601 South 12th Street, Arlington, VA 22202-4220; telephone (571) 227-3651; facsimile (703) 603-0822.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Flight Training for Aliens and Other Designated Individuals; Security Awareness Training for Flight School Employees.

Type of Request: Extension of a currently approved collection.

OMB Control Number: 1652-0021.

Forms(s): NA.

Affected Public: Aliens and other designated individuals seeking flight instruction from FAA-certified flight training providers; flight training providers required to conduct security awareness training to its employees.

Abstract: TSA has established standards relating to the security threat assessments that TSA will conduct to determine whether candidates are a threat to aviation or national security, and thus prohibited from receiving flight training. This collection of information requires Federal Aviation Administration (FAA)-certified flight training providers to provide TSA with the information necessary to conduct the security threat assessments. Finally, TSA has established standards relating to security awareness training for certain flight school employees, which include maintaining records of all such training.

Number of Respondents: 66,500. TSA is revising the number of respondents from the 31,000 respondents reported in the notice published on June 6, 2008. TSA is now including 40,000 additional Flight Training Providers that do not train aliens and are not required to register with TSA. These Flight Training Providers are required under 49 CFR part 1552 to maintain records verifying that a flight school applicant has shown proof of U.S. citizenship or nationality, and are also required to retain records of the initial and recurrent security awareness training provided to employees. TSA estimates the recordkeeping burden for these Flight Training Providers is negligible.

Estimated Annual Burden Hours: An estimated 507,750 hours annually.

Issued in Arlington, Virginia, on August 7, 2008.
Kriste Jordan,
Program Manager, Business Improvements and Communication, Office of Information and Technology.

[FR Doc. E8-18737 Filed 8-12-08; 8:45 am]

BILLING CODE 9110-05-P